DEPARTMENT OF COMMERCE

National Oceanic and Atmospheric Administration

RIN 0648-XF020

Pacific Fishery Management Council; Public Workshop

AGENCY: National Marine Fisheries Service (NMFS), National Oceanic and Atmospheric Administration (NOAA), Commerce.

ACTION: Notice of a public workshop.

SUMMARY: The Pacific Fishery Management Council (Pacific Council) is sponsoring a workshop to review methods used to model productivity in stock assessments. The workshop is open to the public.

DATES: The Productivity Workshop will commence at 9 a.m. PST, Tuesday, December 6, 2016 and continue until 5 p.m. or as necessary to complete business for the day. The workshop will reconvene on Wednesday, December 7 and Thursday, December 8, starting at 9 a.m. PST each day and continuing as necessary to complete business for the day.

ADDRESSES: The Productivity Workshop will be held at the National Marine Fishery Service Western Regional Center's Sand Point facility, Alaska Fisheries Science Center, 7600 Sand Point Way NE., Seattle, WA 98115; telephone: (206) 526-4000. The meeting will be held in Building 4, Traynor Room 2076.

Council address: Pacific Fishery Management Council, 7700 NE Ambassador Place, Suite 101, Portland, OR 97220-1384; telephone: (503) 820-2280.

FOR FURTHER INFORMATION CONTACT: Mr. John DeVore, Pacific Council; telephone: (503) 820-2413.

SUPPLEMENTARY INFORMATION: The purpose of the Productivity Workshop is to review proposed methods for modeling stock productivity in assessments for groundfish and coastal pelagic species. Public comments during the workshop will be received from attendees at the discretion of the chair.

Although non-emergency issues not identified in the workshop agenda may come before the workshop participants for discussion, those issues may not be the subject of formal action during this workshop. Formal action at the workshop will be restricted to those issues specifically listed in this notice and any issues arising after publication of this notice that require emergency action under Section 305(c) of the Magnuson-Stevens Fishery Conservation and Management Act, provided the public has been notified of the workshop participants' intent to take final action to address the emergency.

All visitors to the National Marine Fisheries Service Western Regional Center's Sand Point facility should bring one of the following forms of identification:

• Enhanced Driver's License from the states of Washington, Minnesota, or New York

• U.S. Passport

• U.S. Passport Card

• U.S. Department of Defense CAC

• U.S. Federal agency HSPD-12 compliant ID cards

• U.S. Veterans ID

• U.S. Military Dependent's ID Card

• U.S. Trusted Traveler Card—Global Entry, SENTRI, or NEXUS

• U.S. Transportation Workers Identification Credential (TWIC)

• State issued Real ID Compliant Driver's Licenses and Identification Cards

Visitors who are foreign nationals (defined as a person who is not a citizen or national of the United States) will require additional security clearance to access the Western Regional Center's Sand Point facility. Foreign national visitors should contact Dr. Martin Dorn at (206) 526-6548 at least two weeks prior to the meeting date to initiate the security clearance process.

Special Accommodations

This meeting is physically accessible to people with disabilities. Requests for auxiliary aids should be directed to Mr. Kris Kleinschmidt at (503) 820-2425 at least 10 working days prior to the workshop date.

Dated: November 8, 2016.
Tracey L. Thompson,
Acting Deputy Director, Office of Sustainable Fisheries, National Marine Fisheries Service.

[FR Doc. 2016-27301 Filed 11-10-16; 8:45 am]

BILLING CODE 3510-22-P